SURFACE TRANSPORTATION BOARD

[Docket No. EP 519 (Sub-No. 4)]

Notice of National Grain Car Council Meeting

AGENCY: Surface Transportation Board.

ACTION: Notice of National Grain Car Council meeting.

SUMMARY: Notice is hereby given of a meeting of the National Grain Car Council (NGCC), pursuant to the Federal Advisory Committee Act.

DATES: The meeting will be held on Thursday, August 26, 2021, beginning at 1:00 p.m. (CDT), and is expected to conclude at 5:00 p.m. (CDT).

ADDRESSES: The meeting will be held virtually via Zoom. See Supplementary Information for registration details.

FOR FURTHER INFORMATION CONTACT: Michael Small at (202) 245-0381 or michael.small@stb.gov. Assistance for the hearing impaired is available through the Federal Relay Service at (800) 877-8339.

SUPPLEMENTARY INFORMATION: The NGCC was established by the Interstate Commerce Commission (ICC) as a working group to facilitate private-sector solutions and provide recommendations to the ICC (and now the Surface Transportation Board (Board)) on matters affecting rail grain car availability and transportation. Nat'l Grain Car Supply—Conference of Interested Parties, EP 519 (ICC served Jan. 7, 1994).

The general purpose of this meeting is to discuss rail carrier preparedness to transport the 2021 grain harvest. Agenda items include the following: Remarks by NGCC Chair Jarad Farmer, Board Chairman Martin J. Oberman, Board Vice Chairman and NGCC Co-Chair Robert E. Primus, and Board Members Ann D. Begeman, Patrick J. Fuchs, and Michelle A. Schultz; reports by member groups on expectations for the upcoming harvest, domestic and foreign markets, the supply of rail cars, and rail service; and market and industry updates. The full agenda will be posted on the Board's website at https://prod.stb.gov/resources/stakeholder-committees/grain-car-council.

The meeting will be conducted pursuant to the Federal Advisory Committee Act, 5 U.S.C. app. 2; Federal Advisory Committee Management, 41 CFR part 102-3; the NGCC charter; and Board procedures.

Public Attendance: This meeting is open to the public via Zoom, but members of the public who wish to attend this meeting must register in advance of the meeting. The registration link is provided on the Board's website at https://prod.stb.gov/resources/stakeholder-committees/grain-car-council. Registrations will be accepted on a space-available basis.

Public Comments: Members of the public may submit written comments to the NGCC at any time. Comments should be addressed to Michael Small, Designated Federal Officer for the NGCC, at michael.small@stb.gov. Any further communications about this meeting will be announced through the Board's website, www.stb.gov.

Decided: August 4, 2021.
By the Board, Scott M. Zimmerman, Acting Director, Office of Proceedings.
Kenyatta Clay,
Clearance Clerk.

[FR Doc. 2021-16983 Filed 8-9-21; 8:45 am]

BILLING CODE 4915-01-P